DEPARTMENT OF ENERGY

Federal Energy Regulatory Commission

Notice of Effectiveness of Exempt Wholesale Generator Status

May 8, 2008.

| Docket Nos.
Wheatfield Wind Power Project LLC | EG08-10-000
Capricorn Ridge Wind II, LLC | EG08-34-000
Texas Gulf Wind LLC | EG08-35-000
Providence Heights Wind, LLC | EG08-39-000
Ocotillo Windpower, LP | EG08-40-000
Goat Wind, LP | EG08-41-000
Starwood Power-Midway, LLC | EG08-44-000

Take notice that during the month of April 2008, the status of the above-captioned entities as Exempt Wholesale Generators became effective by operation of the Commission's regulations, with the exception of the entity described in Docket No. EG08-10-000, whose Exempt Wholesale Generator status became effective in January 2008. 18 CFR 366.7(a).

Kimberly D. Bose,
Secretary.

[FR Doc. E8-10961 Filed 5-15-08; 8:45 am]

BILLING CODE 6717-01-P